DEPARTMENT OF THE INTERIOR

Bureau of Land Management

[LLWYD04000.L16100000.DP0000.19X]

Notice of Availability of the Proposed Resource Management Plan Amendment and Final Environmental Impact Statement for Wild Horse Management for the Bureau of Land Management Rock Springs and Rawlins Field Offices, Wyoming

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) and Proposed Resource Management Plan (RMP) Amendment for Wild Horse Management within the Rock Springs and Rawlins Field Offices of Wyoming and by this notice is announcing its availability and the opening of a protest period on the RMP Amendment.

DATES: The BLM planning regulations state that any person who meets the conditions as described in the regulations may protest the BLM's Proposed RMP Amendment. A person who meets the conditions and files a protest must file the protest within 30 days of the date that the Environmental Protection Agency (EPA) publishes its Notice of Availability in the Federal Register. The BLM will issue a Record of Decision no earlier than 30 days from the date of the Notice of Availability published by the EPA.

ADDRESSES: Instructions for filing a protest with the Director of the BLM regarding the Proposed RMPs may be found online at https://www.blm.gov/filing-a-plan-protest and at 43 CFR 1610.5-2.

You may review the Final EIS and Proposed RMP Amendment online at the RMP ePlanning website, (https://go.usa.gov/xeyxa). Hard copies are also available for review at the following BLM offices:

• Rawlins Field Office, 1300 North Third, Rawlins, WY 82301-2407.

• Rock Springs Field Office, 280 Highway 191 North, Rock Springs, WY 82901-3447.

FOR FURTHER INFORMATION CONTACT: Kimberlee Foster, Field Manager, BLM Rock Springs Field Office at 307-352-0256. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM manages wild horses under the authority of the Wild Free-Roaming Horses and Burros Act of 1971, as amended, to ensure healthy wild horse herds thrive on healthy rangelands in balance with other resources. The Act requires the BLM to manage wild horses at Appropriate Management Levels (AML) to achieve a “thriving natural ecological balance.” It also requires BLM to remove wild horses that have strayed onto private lands if the landowner requests their removal.

In June 2010, the Rock Springs Grazing Association (RSGA) filed a lawsuit (Rock Springs Grazing Association v. Salazar, No. 11-CV-00263-NDF) in the U.S. District Court for the District of Wyoming, contending the BLM violated Section 4 of the Wild Free-Roaming Horses and Burros Act (16 U.S.C. 1334) by failing to remove strayed animals from private lands controlled by the RSGA in southern Wyoming's checkerboard pattern of alternating public and private lands. In April 2013, the court approved a Consent Decree and Joint Stipulation for Dismissal that resolved the lawsuit and required the BLM to evaluate potential changes to its management of wild horses on checkerboard lands by considering an RMP revision for the Rock Springs and Rawlins field offices. The BLM initiated the planning effort and developed this Final EIS to meet the terms of the Consent Decree, which directs the BLM to analyze and consider certain wild horse management actions.

If approved, management actions analyzed in this Final EIS would amend the 1997 Green River RMP and the 2008 Rawlins RMP. The planning area for this Final EIS and proposed RMP Amendment includes the four herd management areas that contain checkerboard land and are addressed in the Consent Decree, encompassing approximately 2,811,401 acres managed by the Rock Springs and Rawlins Field Offices.

The BLM manages approximately 1,920,314 acres of surface estate in the planning area. Private land in the planning area totals approximately 814,086 acres. The Proposed RMP Amendment would change management as follows: (1) The Rock Springs Field Office portion of the Adobe Town Herd Management Area (HMA) would no longer be designated as an HMA and would be managed for zero wild horses. For the Rawlins Field Office portion of the HMA, all checkerboard land and the portion of the HMA north of the existing Corson Springs southern allotment boundary fence would no longer be designated as an HMA and would be managed for zero wild horses. The remainder of the HMA would be retained and managed with an AML of 259-536; (2) the entire Great Divide Basin HMA would no longer be designated as an HMA and would be managed for zero wild horses; (3) the entire Salt Wells Creek HMA would no longer be designated as an HMA and would be managed for zero wild horses; and (4) the boundary of the White Mountain HMA would remain the same and would continue to include checkerboard land.

All protests must be in writing and submitted, as set forth in the DATES and ADDRESSES sections earlier. The BLM Director will render a written decision on each protest. The decision will be mailed to the protesting party. The decision of the BLM Director shall be the final decision of the Department of the Interior on each protest. Responses to protest issues will be compiled and formalized in a BLM Director's Protest Resolution Report made available following issuance of the decisions.

Before including your address, phone number, email address, or other personally identifying information in your protest, you should be aware that your entire protest—including your personally identifying information—may be made publicly available at any time. While you can ask the BLM in your protest to withhold your personal identifying information from public review, we cannot guarantee that we will be able to do so.

Authority: 40 CFR 1506.6, 40 CFR 1506.10, 43 CFR 1610.2, 43 CFR 1610.5

Andrew Archuleta,
State Director, Wyoming.

[FR Doc. 2022-09556 Filed 5-5-22; 8:45 am]

BILLING CODE 4310-22-P